DEPARTMENT OF COMMERCE

International Trade Administration

A-570-822

Helical Spring Lock Washers from the People's Republic of China: Notice of Rescission of Antidumping Duty Administrative Review

AGENCY: Import Administration, International Trade Administration, Department of Commerce.

EFFECTIVE DATE: June 16, 2008.

FOR FURTHER INFORMATION CONTACT: Devta Ohri, AD/CVD Operations, Office 1, Import Administration, International Trade Administration, U.S. Department of Commerce, 14th Street and Constitution Avenue, NW, Washington, DC 20230; telephone (202) 482-3853.

SUPPLEMENTARY INFORMATION:

Background

On October 19, 1993, the Department published the antidumping duty order on certain helical spring lock washers (“HSLW”) from the People's Republic of China (“PRC”), as amended on November 23, 1993. See Antidumping Duty Order: Certain Helical Spring Lock Washers From the People's Republic of China, 58 FR 53914 (October 19, 1993), and Amended Final Determination and Amended Antidumping Duty Order: Certain Helical Spring Lock Washers From the People's Republic of China, 58 FR 61859 (November 23, 1993). On November 26, 2007, the Department initiated an administrative review of Hangzhou Spring Washer Co., Ltd. (also known as Zhejiang Wanxin Group, Ltd.) (“HSW” or “Respondent”). See Initiation of Antidumping and Countervailing Duty Administrative Reviews and Request for Revocation in Part, 72 FR 65938 (November 26, 2007). On May 15, 2008, both HSW and Shakeproof Assembly Components Division of Illinois Tool Works Inc. (“Shakeproof” or “Petitioner”) requested that the Department exercise its discretion and extend the deadline for withdrawal of administrative review beyond 90 days, thereby allowing both HSW's and Shakeproof's May 15, 2008, withdrawal requests to be considered timely.

Scope of the Order

The products covered by the order are HSLWs of carbon steel, of carbon alloy steel, or of stainless steel, heat-treated or non-heat-treated, plated or non-plated, with ends that are off-line. HSLWs are designed to: (1) Function as a spring to compensate for developed looseness between the component parts of a fastened assembly; (2) distribute the load over a larger area for screws or bolts; and (3) provide a hardened bearing surface. The scope does not include internal or external tooth washers, nor does it include spring lock washers made of other metals, such as copper.

HSLWs subject to the order are currently classifiable under subheading 7318.21.0030 of the Harmonized Tariff Schedule of the United States (“HTSUS”). Although the HTSUS subheading is provided for convenience and customs purposes, the written description of the scope of this proceeding is dispositive.

Rescission of Review

Section 351.213(d)(1) of the Department's regulations provides that the Department will rescind an administrative review if the party that requested the review withdraws its request for review within 90 days of the date of publication of the notice of initiation of the requested review, or withdraws its request at a later date if the Department determines that it is reasonable to extend the time limit for withdrawing the request. Both HSW and Shakeproof withdrew their requests for review on May 15, 2008, which is after the 90-day deadline. Nonetheless, the Department accepts the withdrawal requests because it has not yet expended significant resources on this review. Therefore, the Department is rescinding the administrative review of HSW covering the period October 1, 2006 through September 30, 2007.

The Department intends to issue assessment instructions to U.S. Customs and Border Protection (“CBP”) 15 days after publication of this rescission notice. The Department will instruct CBP to assess antidumping duties at rates equal to the cash deposit of estimated antidumping duties required at the time of entry, or withdrawal from warehouse, for consumption, in accordance with 19 CFR 351.212(c)(1)(i).

Notification Regarding Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is published in accordance with section 777(i) of the Tariff Act of 1930, as amended, and 19 CFR 351.213(d)(4).

Dated: June 10, 2008.
David M. Spooner,
Assistant Secretary for Import Administration.

[FR Doc. E8-13494 Filed 6-13-08; 8:45 am]

BILLING CODE 3510-DS-S